INTERNATIONAL TRADE COMMISSION

[Investigation No. 337-TA-793]

Certain Flat Panel Display Devices, and Products Containing the Same; Notice of Commission Determination Not To Review an Initial Determination Granting Complainants' Unopposed Motion for Leave To Amend the Complaint and Notice of Investigation

AGENCY: U.S. International Trade Commission.

ACTION: Notice.

SUMMARY: Notice is hereby given that the U.S. International Trade Commission has determined not to review the presiding administrative law judge's (“ALJ”) initial determination (“ID”) (Order No. 6) granting Complainant's unopposed motion for leave to amend the complaint and notice of investigation.

FOR FURTHER INFORMATION CONTACT: Panyin A. Hughes, Esq., Office of the General Counsel, U.S. International Trade Commission, 500 E Street, SW., Washington, DC 20436, telephone (202) 205-3042. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 28, 2011, based on a complaint filed by AU Optronics Corporation of Hsinchu, Taiwan and AU Optronics Corporation America of Milpitas, California (collectively, “AU Optronics”). 76 FR 45296 (July 28, 2011). The complaint alleged violations of section 337 of the Tariff Act of 1930 (19 U.S.C. 1337) in the importation into the United States, the sale for importation, and the sale within the United States after importation of certain flat panel display devices, and products containing the same by reason of infringement of various claims of United States Patent Nos. 6,281,955; 7,697,093; 7,286,192; 6,818,967; 7,199,854; and 7,663,729. The complaint named as respondents Samsung Electronics Co., Ltd. of Seoul, Korea; Samsung Electronics America, Inc. of Ridgefield Park, New Jersey; AT&T, Inc. of Dallas, Texas (“AT&T”); Best Buy Co., Inc. of Richfield, Minnesota (“Best Buy”); and BrandsMart USA, Inc. of Hollywood, Florida (“BrandsMart”).

On August 31, 2011, AU Optronics filed an unopposed motion for leave to amend the complaint and notice of investigation to add as respondents: AT&T Mobility LLC of Atlanta, Georgia; Best Buy Stores, L.P. of Richfield, Minnesota; BestBuy.com, LLC of Eden Prairie, Minnesota; Best Buy Purchasing, LLC of Richfield, Minnesota; and Interbond Corporation of America of Fort Lauderdale, Florida, d/b/a BrandsMart U.S.A. (collectively, “New Respondents”), and to terminate the investigation as to AT&T, Best Buy, and BrandsMart.

On September 15, 2011, the ALJ issued the subject ID, granting the motion. The ALJ found that, pursuant to Commission Rule 210.14(b) (19 CFR 210.14(b)), good cause exists to amend the complaint and notice of investigation. None of the parties petitioned for review of the ID.

The Commission has determined not to review the ID. Accordingly, the New Respondents are added as respondents to this investigation and AT&T, Best Buy, and BrandsMart are terminated from the investigation.

The authority for the Commission's determination is contained in section 337 of the Tariff Act of 1930, as amended (19 U.S.C. 1337), and in section 210.42 of the Commission's Rules of Practice and Procedure (19 CFR 210.42).

Issued: October 6, 2011.
By order of the Commission.
James R. Holbein,
Secretary to the Commission.

[FR Doc. 2011-26445 Filed 10-12-11; 8:45 am]

BILLING CODE 7020-02-P